DEPARTMENT OF THE INTERIOR

Bureau of Indian Affairs

Notice of Availability, Assessment Plan for Natural Resources Injured by Releases of Hazardous Substances From the Rio Tinto Mine

AGENCY: Bureau of Indian Affairs, Interior.

ACTION: Notice of availability.

SUMMARY: The Bureau of Indian Affairs and the U.S. Fish and Wildlife Service, on behalf of the Department of the Interior, the Shoshone-Paiute Tribes of Duck Valley, the Department of Agriculture, and the State of Nevada, announces the release for public review of the Assessment Plan, Rio Tinto Mine Site Natural Resource Damage Assessment—Public Release Draft Report (Assessment Plan). The Assessment Plan was developed by the Rio Tinto Mine Trustee Council consisting of representatives of the Tribe and Agencies listed above, to assess injuries to natural resources resulting from the releases of hazardous substances from the Rio Tinto Mine in Elko County, Nevada. The Assessment Plan describes the proposed approach for determining and quantifying natural resource injuries and calculating damages associated with these injuries. All interested parties are invited to submit comments on the Assessment Plan.

DATES: Comments must be received on or before June 15, 2005.

ADDRESSES: Written comments should be sent to the Regional Director, Western Regional Office, Bureau of Indian Affairs, P.O. Box 10, Phoenix, Arizona 85001 or 400 North Fifth Street, Phoenix, Arizona 85004 (Telephone (602) 379-6600 and facsimile (602) 379-4413).

The Assessment Plan is available for review from the following officials at their office locations: (1) John Krause, Bureau of Indian Affairs, Western Regional Office, 400 N. Fifth Street, Phoenix, Arizona 85004, (602) 379-3491; (2) Marcie Phillips, Shoshone Paiute Tribes of Duck Valley, P.O. Box 219, Owyhee, Nevada 89832, (208) 759-3100, ext. 247; and (3) Stan Wiemeyer, U.S. Fish and Wildlife Service, Nevada Fish and Wildlife Office, 1340 Financial Blvd., Suite 234, Reno, Nevada 89502, (775) 861-6300. The Assessment Plan is available for public inspection during normal business hours by appointment, at those addresses. The Assessment Plan is also available for review on the Web site at http://ndep.nv.gov/admin/rio_tinto_nrda.htm.

FOR FURTHER INFORMATION CONTACT: Marcie Phillips, (208) 759-3100, extension 247, or by e-mail at shopaitr8@aol.com.

SUPPLEMENTARY INFORMATION:

Background

The Rio Tinto Mine (Mine) was first worked by the Anaconda Copper Mining Company (Anaconda) using underground mining techniques and a flotation mill from 1932 to 1947. During this period, Anaconda established tailings ponds, and deposited tailings and waste rock in the Mill Creek Watershed, and realigned Mill Creek. In 1966, G.M. Wallace and Company and Cleveland Cliffs Iron Company (Cleveland Cliffs), formerly Cliffs Copper Corporation, performed acid leaching activities and constructed an additional pond in the Mill Creek Watershed. In 1967, Cleveland Cliffs took ownership and operation in its entirety. In 1972, Teck Cominco American Incorporated (Cominco Amercian), formerly Cominco America, Inc. became legal owner of the Mine. From 1972 to 1975, in order to remove water accumulation in underground mining areas, a 6700-foot deep well and a waste water treatment plant were installed. The treatment plant discharged waste water to Mill Creek and produced sludge. A sludge pond was developed to dispose of this sludge. Also, drainage ditches were created in the tailings. In 1975, Cleveland Cliffs terminated operations. Also, in 1975, Cominco American and E.I. du Pont de Nemours and Company (DuPont) began to drill exploratory holes. From 1986 to 1987, Rio Tinto Copper, Inc. owned and operated an in-situ acid leaching operation.

Releases of hazardous substances from the Mine began as early as 1932, and continue today. Several sources at the Mine currently release various hazardous substances into the ground water and the water and sediment in Mill Creek, and from there into the Owyhee River. Hazardous substance and contaminant releases from the Mine to Mill Creek and the Owyhee River are caused by the past deposition of mining waste in the historic Mill Creek channel and other areas at the Mine. Mill Creek was diverted around the waste but water has flowed and continues to flow, over and through waste areas, tailings and process ponds, causing acid mine drainage, and chronic releases of hazardous substances and contaminants to Mill Creek. Additionally, catastrophic failures of impoundments in the Mill Creek channel have caused acute releases of hazardous substances and contaminants to Mill Creek.

In August 2000, the Environmental Protection Agency (EPA) proposed to add the Rio Tinto Mine Site (Site) to the National Priorities List. The State of Nevada did not concur with this recommendation. EPA recommended that the Nevada Division of Environmental Protection (NDEP) enter into negotiations with the RTWG and the Shoshone-Paiute Tribes of Duck Valley (Tribes) regarding proper remediation at the Site with input by the Bureau of Indian Affairs, the U.S. Fish and Wildlife Service, and the U.S. Forest Service. These negotiations resulted in an Administrative Order on Consent (AOC) between the NDEP and the RTWG. The AOC includes a scope of work outlining the remedial decision process. Also, a Memorandum of Understanding (MOU) between the NDEP, Tribes, and EPA is in place. Through the AOC process, the RTWG is continuing to conduct investigative and assessment activities at the Site in order to study remedial alternatives.

The Rio Tinto Mine Trustee Council Natural Resource Trustees (Trustees) are representatives of federal, state, and tribal government entities with trust authority over natural resources potentially injured by releases of hazardous substances from the Rio Tinto Mine. The Trustees have the authority to obtain damages from potentially responsible parties for past, present, and future injuries to natural resources caused by releases of hazardous substances at the facility. Such natural resources include, but are not limited to, ground water, surface water, sediment, fish, amphibian and other aquatic biota, floodplain soils, riparian vegetation, and wildlife in and around the Mill Creek drainage and the Owyhee River drainage. The assessment area includes the area surrounding and downstream from the Rio Tinto Mine in Elko, County; the Humboldt National Forest, and the Duck Valley Indian Reservation.

Authority

This notice is published in accordance with the Comprehensive Environmental Response, Compensation, and Liability Act of 1980, as amended (42 U.S.C. 9601 et seq.) and is in the exercise of authority delegated to the Principal Deputy Assistant Secretary—Indian Affairs under Part 209, Departmental Manual, Chapter 8.1.

Dated: May 5, 2005.
Michael D. Olsen,
Acting Principal Deputy Assistant Secretary—Indian Affairs.

[FR Doc. 05-9622 Filed 5-13-05; 8:45 am]

BILLING CODE 4310-W7-P